DEPARTMENT OF COMMERCE

International Trade Administration

[A-570-853]

Bulk Aspirin from the People's Republic of China; Extension of Time Limit for the Preliminary Results of the Antidumping Duty Administrative Review.

AGENCY: Import Administration, International Trade Administration, Department of Commerce.

ACTION: Notice of Extension of Time Limit.

SUMMARY: The Department of Commerce is extending the time limit for the preliminary results of the administrative review of the antidumping duty order on bulk aspirin from the People's Republic of China (“PRC”). The period of review is July 6, 2000 through June 30, 2001. This extension is made pursuant to section 751(a)(3)(A) of the Tariff Act of 1930, as amended by the Uruguay Round Agreements Act.

DATES: March 29, 2002.

FOR FURTHER INFORMATION CONTACT: Blanche Ziv or Cole Kyle in Office 1, Import Administration, International Trade Administration, U.S. Department of Commerce, 14th Street and Constitution Avenue, NW, Washington DC 20230; at telephone (202) 482-4207 and 482-1503, respectively.

>

SUPPLEMENTARY INFORMATION:

Applicable Statute

Unless otherwise indicated, all citations to the statute are references to the provisions effective January 1, 1995, the effective date of the amendments made to the Tariff Act of 1930 (“the Act”) by the Uruguay Round Agreements Act and all citations to the regulations are to 19 CFR Part 351 (2001).

Statutory Time Limits

Section 751(a)(3)(A) of the Act requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

Background

On August 20, 2001, the Department published a notice of initiation of administrative review of the antidumping duty order on bulk aspirin from the PRC, covering the period July 6, 2000 through June 30, 2001 (66 FR 43570). The preliminary results for the antidumping duty administrative review of bulk aspirin from the PRC are currently due no later than April 2, 2002.

Extension of Time Limits for Preliminary Results

In order to consider various issues (e.g., factor values, changed circumstances review request) raised by the interested parties in this review, it is not practicable to complete this review within the originally anticipated time limit (i.e., by April 2, 2002). Therefore, the Department of Commerce is extending the time limit for completion of the preliminary results to no later than July 31, 2002, in accordance with section 751(a)(3)(A) of the Act.

This extension is in accordance with section 751(a)(3)(A) of the Act.

Dated: March 25, 2002
Richard W. Moreland,
Deputy Assistant Secretary for AD/CVD Enforcement.

[FR Doc. 02-7654 Filed 3-28-02; 8:45 am]

BILLING CODE 3510-DS-S